DEPARTMENT OF TRANSPORTATION

Federal Aviation Administration

Seventeenth Meeting: RTCA Special Committee 225, Rechargeable Lithium Battery and Battery Systems

AGENCY: Federal Aviation Administration (FAA), U.S. Department of Transportation (DOT).

ACTION: Meeting Notice of RTCA Special Committee 225, Rechargeable Lithium Battery and Battery Systems.

SUMMARY: The FAA is issuing this notice to advise the public of the seventeenth meeting of the RTCA Special Committee 225, Rechargeable Lithium Battery and Battery Systems.

DATES: The meeting will be held August 19-21, 2014 from 9:00 a.m.-5:00 p.m.

ADDRESSES: The meeting will be held at RTCA Headquarters, 1150 18th Street NW., Suite 910, Washington, DC 20036.

FOR FURTHER INFORMATION CONTACT: The RTCA Secretariat, 1150 18th Street NW., Suite 910, Washington, DC 20036, or by telephone at (202) 330-0662/(202) 833-9339, fax (202) 833-9434, or Web site at http://www.rtca.org. In addition, Jennifer Iversen may be contacted directly at email: jiversen@rtca.org.

SUPPLEMENTARY INFORMATION: Pursuant to section 10(a)(2) of the Federal Advisory Committee Act (Pub. L. 92-463, 5 U.S.C., App.), notice is hereby given for a meeting of Special Committee 225. The agenda will include the following:

August 19

• Introductions and administrative items (including DFO & RTCA Statement).

• Review agenda.

• Review and approval of summary from the last Plenary.

• Review changes made to the document as a result of the NTSB recommendations.

• Update DO-311A plan (WG meetings, Plenary schedule, Status of FRAC comments)

• Discuss if we should update the matrix that compares the Special Conditions to the document. This matrix was published in a previous Plenary Summary.

• Adjourn to working group to disposition FRAC comments

• Review action items

August 20

• Review agenda, other actions.

• Adjourn to working group to disposition FRAC comments

• Review action items.

August 21

• Review agenda, other actions.

• Review schedule for upcoming Plenaries and working group meetings.

• Establish agenda for the next Plenary.

• Adjourn to working group to disposition FRAC comments

• Working Group Report

• Review action items.

• Adjourn.

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on July 22, 2014.
Mohannad Dawoud,
Management Analyst, NextGen, Business Operations Group, Federal Aviation Administration.

[FR Doc. 2014-17816 Filed 7-28-14; 8:45 am]

BILLING CODE 4910-13-P